DEPARTMENT OF COMMERCE

National Oceanic and Atmospheric Administration

RIN 0648-XD162

Endangered Species; File No. 18029

AGENCY: National Marine Fisheries Service (NMFS), National Oceanic and Atmospheric Administration (NOAA), Commerce.

ACTION: Notice; receipt of application.

SUMMARY: Notice is hereby given that Tasha Metz, Texas A&M University at Galveston, Department of Marine Biology, P.O. Box 1675, Galveston, TX 77551, has applied in due form for a permit to take loggerhead (Caretta caretta), green (Chelonia mydas), Kemp's ridley (Lepidochelys kempii), and hawksbill (Eretmochelys imbricata) sea turtles for purposes of scientific research.

DATES: Written, telefaxed, or email comments must be received on or before April 11, 2014.

ADDRESSES: The application and related documents are available for review by selecting “Records Open for Public Comment” from the Features box on the Applications and Permits for Protected Species (APPS) home page, https://apps.nmfs.noaa.gov, and then selecting File No. 18029 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division

• by email to NMFS.Pr1Comments@noaa.gov (include the File No. in the subject line of the email),

• by facsimile to (301) 713-0376, or

• at the address listed above.

Those individuals requesting a public hearing should submit a written request to the Chief, Permits and Conservation Division at the address listed above. The request should set forth the specific reasons why a hearing on this application would be appropriate.

FOR FURTHER INFORMATION CONTACT: Rosa L. González or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year research permit to continue studying relative abundance, distribution, habitat use, and health status of the above sea turtle species in estuarine and nearshore waters in the northwestern Gulf of Mexico particularly off Texas and Louisiana. Research would be divided between two major projects: (1) Continuation of work started during the Natural Resource Damage Assessment documenting and assessing possible impacts of Deepwater Horizon oil and dispersants on sea turtles throughout selected beachfront, tidal pass and estuarine/bay habitats west of the Mississippi River Delta; and (2) continuation of assessing the impact of Fibropapilloma virus infection on recent increases in and continued growth of Texas' green turtle population. Annually, up to 60 loggerhead, 260 green, 310 Kemp's ridley, and 15 hawksbill sea turtles would be captured using nets (i.e., entanglement, cast nets, and dip net) and visual surveys would be performed. Captured turtles would be measured; weighed; photographed; tissue, scute, blood and fecal sampled; carapace marked; flipper and passive integrated transponder tagged; and have epibiota removed prior to release. A select number may be outfitted with satellite transmitters to track movements post-release.

Dated: March 6, 2014.
Donna S. Wieting,
Director, Office of Protected Resources, National Marine Fisheries Service.

[FR Doc. 2014-05404 Filed 3-11-14; 8:45 am]

BILLING CODE 3510-22-P